DEPARTMENT OF TRANSPORTATION

Office of the Secretary

Notice of Applications for Certificates of Public Convenience and Necessity and Foreign Air Carrier Permits Filed Under Subpart B (formerly Subpart Q) During the Week Ending February 8, 2002

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-3853.

Date Filed: February 5, 2002.

Due Date for Answers, Conforming Applications, or Motion to Modify Scope:February 26, 2002.

Description: Amendment No. 1 of United Air Lines, Inc. to its application for a certificate of public convenience and necessity, requesting authority to engage in scheduled foreign air transportation of persons, property, and mail between (1) From points behind the United States via the United States and intermediate points to a point or points in France and beyond; (2) from points behind the United States via the United States and intermediate points to French Departments of America and beyond; (3) from points behind the United States via the United States to New Caledonia and/or Wallis and Futuna; (4) from points behind the United States via the United States and intermediate points to French Polynesia and beyond; and, (5) from points behind the United States via the United States and intermediate points to Saint Pierre and Miquelon and beyond.

Docket Number: OST-2002-11481.

Date Filed: February 5, 2002.

Due Date for Answers, Conforming Applications, or Motion to Modify Scope:February 26, 2002.

Description:Application of Edelweiss Air, Ltd., pursuant to 49 U.S.C. section 41301, 14 CFR part 211 and subpart B, requesting a foreign air carrier permit to engage in charter foreign air transportation of persons, property, and mail between Switzerland and the United States.

Docket Number: OST-2002-11528.

Date Filed: February 7, 2002.

Due Date for Answers, Conforming Applications, or Motion to Modify Scope: February 28, 2002.

Description: Application of Continental Micronesia, Inc., pursuant to 49 U.S.C. section 41102 and subpart B, requesting a certificate of public convenience and necessity to engage in scheduled foreign air transportation of persons, property, and mail from points behind the United States via the United States and intermediate points to a point or points in France and beyond to the full extent authorized by the recently-signed U.S.-France “open skies” agreement. Continental Micronesia also requests authority to integrate its U.S.-France certificate authority with its existing exemption and certificate authority.

Docket Number: OST-2002-11526.

Date Filed: February 8, 2002.

Due Date for Answers, Conforming Applications, or Motion to Modify Scope: March 1, 2002.

Description: Application of Air Georgian Limited, pursuant to section 402 and subpart B, requesting a foreign air carrier permit to engage in: (1) Transborder scheduled combination services between a point or points in Canada and a point or points in the United States; and, (2) charter operations, carrying persons, property and mail, between Canada and the United States and other charters, pursuant to 14 CFR part 212.

Docket Number: OST-2002-11535.

Date Filed: February 8, 2002.

Due Date for Answers, Conforming Applications, or Motion to Modify Scope: March 1, 2002.

Description: Application of Crossair Ltd. d/b/a Swiss, pursuant to 49 U.S.C. section 41302, part 211.20 and subpart B, requesting an initial foreign air carrier permit to engage in foreign air transportation of persons, property, and mail between Zurich and Boston, Newark, Washington, DC, New York (JFK), Los Angeles, Miami and Chicago; and, between Geneva and New York (JFK).

Dorothy Y. Beard,
Federal Register Liaison.

[FR Doc. 02-4635 Filed 2-26-02; 8:45 am]

BILLING CODE 4910-62-P